DEPARTMENT OF HEALTH AND HUMAN SERVICES

Administration for Children and Families

Notice To Award a Grant

Program Office: Administration on Children, Youth and Families (ACYF)/ Family and Youth Services Bureau (FYSB).

Recipient Name: Medical Institute for Sexual Health.

Announcement Type: Notice to Award a Grant.

CFDA Number: 93.235.

Amount of Award: $207,400.

Project Period: 5/1/2007-4/30/2008.

Summary: This is a notice to award a grant to the Medical Institute for Sexual Health, Austin, TX, in the amount of $207,400 to support the development of online medical accuracy training for abstinence education providers.

Background: The Medical Institute for Sexual Health proposes to develop an online instructor-led workshop to train abstinence education providers in methods to access medically accurate sexual health information via the internet. Participants will learn to identify credible internet resources for sexual health information, efficiently and effectively search the internet, and answer most questions on sexual health topics.

The proposal is within the scope of technical assistance activities that the Abstinence Education Division of the Family and Youth Services Bureau (FYSB) provides to grantees with regard to integrating medical and scientific information into abstinence education programming. The Congress, in appropriating funds for the program, has directed the Administration for Children and Families (ACF) to devote up to five percent of appropriated funds for technical assistance and capacity-building for abstinence education grantees. In addition, the proposed activities of this awardee are outside the scope of the ACF's previous or proposed abstinence education competitive program announcements and would not qualify for any other existing grant opportunities.

For Further Information Contact: Stanley Koutstaal, Ph.D., Acting Director, Division of Abstinence Education, 1250 Maryland Ave., SW., Washington, DC 20024, (202) 401-9205, Nina.Degeorge@ACF.hhs.gov.

Dated: May 16, 2007.
Harry Wilson,
Associate Commissioner, Family and Youth Services Bureau.

[FR Doc. E7-9824 Filed 5-21-07; 8:45 am]

BILLING CODE 4184-01-P